DEPARTMENT OF THE INTERIOR

Office of the Secretary

Sunshine Act; Notice of Meetings

Time and Date: 1 p.m. to 6 p.m. October 25, 2006; and 8:30 a.m. to 5:30 p.m. October 27, 2006; times Atlantic Standard Time.

Place: Ballroom, Frenchman's Reef Hotel, St. Thomas, U.S. Virgin Islands.

Status: The Department of the Interior, as co-chair with the Department of Commerce, on behalf of the U.S. Coral Reef Task Force, announces a public meeting of the Task Force.

Matters to be Considered: Updates on implementation of Local Action Strategies, impacts of coral bleaching in the Caribbean, International approaches to coral reef conservation, Virgin Island accomplishments and public comments on coral reef issues generally. The agenda will be available from the contact person below and published on the Task Force Web site at http://www.coralreef.gov when finalized.

Registration and Exhibits: There is no charge to attend this meeting. Space is also available for those desiring to have exhibits. Registration information for attendance and for exhibits, along with information on rooms, parking and related items, is available on the Task Force Web site noted above. Exhibits must be registered well in advance of the meeting.

FOR FURTHER INFORMATION CONTACT: Those desiring to obtain additional information should contact Randal Bowman at the office of the Assistant Secretary for Fish and Wildlife Parks, Department of the Interior, 1849 C Street, NW., MS-MIB-3156, Attn: CRTF, Washington, DC 20240, telephone 202-219-1037, e-mail Randal_Bowman@ios.doi.gov.

Public Comments: Written statements of any length may be submitted to the Task Force through the above address, or delivered to the Task Force staff at the meeting. Those desiring to testify before the Task Force should register to do so through the above contact person, or upon arrival at the meeting, and should plan on summarizing their actual statements in 3 or 4 minutes due to the large number of anticipated witnesses. All written statements will be considered in their entirety. Wherever possible, those with similar viewpoints or messages are encouraged to make joint statements. Testimony will be received on the afternoon of October 25.

Dated: September 18, 2006.
David M. Verhey,
Acting Assistant Secretary for Fish and Wildlife and Parks.

[FR Doc. 06-8188 Filed 9-20-06; 3:18 pm]

BILLING CODE 4310-55-P